DEPARTMENT OF TRANSPORTATION

Maritime Administration

Public Listening Sessions Regarding the Maritime Administration's Panama Canal Expansion Study and the America's Marine Highway Program

AGENCY: Maritime Administration, DOT.

ACTION: Notice.

SUMMARY: The purpose of this notice is to announce a series of public listening sessions and workshops regarding the expansion of the Panama Canal and the America's Marine Highway Program. The meetings are being held to provide a forum for maritime industry stakeholders and the general public to present their views and concerns on critical issues that the U.S. Department of Transportation, Maritime Administration (MARAD) should consider in the development of its comprehensive study of the 2014 Panama Canal Expansion project and during its efforts to explore opportunities to incorporate America's Marine Highways into the National Transportation System. These meetings will be identical in terms of agenda and purpose; they are being held in different locations (San Francisco, CA and New York, NY) to maximize nationwide stakeholder participation.

MARAD's study of the Panama Canal Expansion will evaluate the potential impacts of the expansion on U.S. ports and infrastructure. The study is being conducted in four defined phases that are designed to present considerations for policy, investment, and funding options as well as recommendations for policy changes that will favorably impact the overall shift in the Nation's trade patterns. Phase I of the study will include an examination of the history and development of the Panama Canal Expansion process and will present current data and information on Panama Canal's role in the U.S. trade market with the rest of the world. Phase II of the study will involve a more comprehensive data gathering and outreach effort that will include the subject stakeholder listening sessions, dissemination of a shipper survey, and one-on-one interviews with targeted maritime stakeholder groups. The final Phases of the study (Phase III and Phase IV) will involve identification of potential infrastructure expansion opportunities and development of a framework for which the U.S. Government may leverage the Panama Canal Expansion effort to optimize financial investments in U.S. ports and inland infrastructure.

Expansion of the Panama Canal will require new capital investments in transportation infrastructure by both the private and public sectors. The size, location and timing of these investments will depend on how various stakeholders believe that global trade patterns, vessel operations, import and export flows, logistics support systems and port and land-side capacity will be re-configured to accommodate the larger vessels and increased capacity of the Panama Canal in a post-2014 operating environment. A wide variety of stakeholders may be potentially affected by decisions and policies that will be implemented by the U.S. Department of Transportation and MARAD as a result of this study. Each stakeholder has a particular set of perspectives and a highly unique set of information upon which they will base their own investment and operational responses to the Panama Canal Expansion. Moreover, there is a wide diversity of opinion on which ports, trade lanes, landside infrastructure and commodities will be affected by the expansion.

Accordingly, stakeholder participation in the subject listening sessions and workshops is an essential part of the overall data collection and analysis effort for the study and will help support the agency's efforts to expand the use of America's Marine Highways. Discussion topics for the Panama Canal Expansion Study Listening Sessions will include: Impacts on the U.S. economy, trade patterns post-expansion, anticipated effects on East/West/Gulf Coasts and Inland ports, infrastructure development, and future bottlenecks as well as other related issues. Topics of discussions relating to the America's Marine Highways will include: corridors, connections and crossings, program projects and initiatives, intermodal connectivity, and public/private partnerships.

FOR FURTHER INFORMATION CONTACT: For information, contact Ms. Yvette M. Fields, Director, Office of Deepwater Ports and Offshore Activities, Maritime Administration, 1200 New Jersey Avenue, SE., Washington, DC 20590 or by e-mail at mailto:Yvette.Fields@dot.gov.

DATES AND ADDRESSES: The first Panama Canal Expansion Study Listening Session will take place in San Francisco, CA on September 22, 2011, from 8:30 a.m. to 12:30 p.m., at the Westin Hotel at Market Street, 50 Third Street, San Francisco, CA 94103, and will be followed by the America's Marine Highway Corridor Workshop from 1:30 p.m. to 5 p.m. The second Panama Canal Expansion Study Listening Session will take place in New York, NY on September 27, 2011, from 8:30 to 12:30 p.m., at the U.S. Customs House, One Bowling Green, New York, NY 10004, and will be followed by the America's Marine Highway Corridor Workshop from 1:30 p.m. to 5 p.m.

Registration: To register, interested parties should send their name, group affiliation, and contact information, and indicate which of the meetings (either the Panama Canal, Marine Highway or both) they wish to attend to mailto:http://www.PanamaCanalStudy.com/registration by September 14, 2011. The meetings are open to the public and advance registration and confirmation is required. Space is limited to the first 150 registrants. After registering, an email confirmation will be forwarded with an agenda and other related information.

The sessions will be held at sites accessible to individuals with disabilities. Individuals who require other special accommodations such as a sign language interpreter may submit their request at the time of registration at http://www.PanamaCanalStudy.com/registration by September 14, 2011.

Dated: September 1, 2011.
By Order of the Maritime Administrator.
Julie P. Agarwal,
Secretary, Maritime Administration.

[FR Doc. 2011-22967 Filed 9-7-11; 8:45 am]

BILLING CODE 4910-81-P